NUCLEAR REGULATORY COMMISSION

[Docket No. 50-409]

Notice of Availability of Environmental Assessment and Finding of No Significant Impact for an Exemption From Certain Inventory-Related Requirements of 10 CFR 74.19(b) and 10 CFR 74.19(c) for Dairyland Power Cooperative (DPR-45) in Genoa, WI

AGENCY: Nuclear Regulatory Commission.

ACTION: Notice of availability.

FOR FURTHER INFORMATION CONTACT: Kristina L. Banovac, Project Manager, Decommissioning and Uranium Recovery Licensing Directorate, Division of Waste Management and Environmental Protection, Office of Federal and State Materials and Environmental Management Programs, U.S. Nuclear Regulatory Commission, Washington, DC 20555. Telephone: (301) 415-5114; fax number: (301) 415-5369; e-mail: klb@nrc.gov.

SUPPLEMENTARY INFORMATION:

I. Introduction

The U.S. Nuclear Regulatory Commission (NRC) is issuing an exemption to certain inventory-related requirements of 10 CFR 74.19(b) and 10 CFR 74.19(c) for Possession Only License No. DPR-45, issued to Dairyland Power Cooperative (DPC) (the licensee) for the La Crosse Boiling Water Reactor in Genoa, Wisconsin. NRC has prepared an Environmental Assessment (EA) in support of this amendment in accordance with the requirements of 10 CFR Part 51. Based on the EA, the NRC has concluded that a Finding of No Significant Impact is appropriate. The exemption will be issued following the publication of this Notice.

II. EA Summary

The proposed action is to grant an exemption to DPC from certain inventory-related requirements of 10 CFR 74.19(b) and 10 CFR 74.19(c), until the time the spent fuel is moved from the spent fuel pool to dry cask storage.

The staff has prepared the EA in support of the proposed exemption. The proposed action is an administrative action and will not result in any significant environmental impacts. The proposed action will not result in the release of any chemical or radiological constituents to the environment and will not affect any environmental resources. The proposed action will not cause any adverse impacts to local land use, biotic resources, or cultural or historic resources.

III. Finding of No Significant Impact

Pursuant to 10 CFR Part 51, the NRC staff has considered the environmental consequences of granting DPC an exemption from certain inventory-related requirements of 10 CFR 74.19(b) and 10 CFR 74.19(c). On the basis of this assessment, the Commission has concluded that there are no significant environmental impacts from the proposed action, and the Commission is making a finding of no significant impact. Accordingly, preparation of an environmental impact statement is not warranted.

IV. Further Information

Documents related to this action are available electronically at the NRC's Electronic Reading Room at http://www.nrc.gov/reading-rm/adams.html. From this site, you can access the NRC's Agencywide Document Access and Management System (ADAMS), which provides text and image files of NRC's public documents. The ADAMS accession numbers for the documents related to this notice are:

Date | Document title/subject | ADAMS accession number
February 4, 1980 | License Amendment No. 18 to DPR-45 | 8002140657 (ADAMS Legacy Library)
June 16, 2006 | La Crosse Boiling Water Reactor—NRC Material Control and Accounting Program Inspection Report No. 05000409/2006201 and Notice of Violation | ML061560040
February 8, 2007 | Request for Additional Information on Request for Exemption from Certain Requirements of 10 CFR 74.19(b) and 10 CFR 74.19(c) | ML070330501
March 21, 2007 | DPC Response to NRC Request for Additional Information on Request for Exemption from Certain Requirements of NRC Regulations 10 CFR 74.19(b) and (c) | ML071000571
December 14, 2007 | Environmental Assessment Related to Granting of Exemption from Certain Inventory-Related Requirements of 10 CFR 74.19(b) and 10 CFR 74.19(c) for NRC License No. DPR-45, Dairyland Power Cooperative in Genoa, Wisconsin | ML072830280

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, MD this 14th day of December, 2007.
For the Nuclear Regulatory Commission.
Keith I. McConnell,
Deputy Director, Decommissioning and Uranium Recovery, Licensing Directorate, Division of Waste Management and Environmental Protection, Office of Federal and State Materials and Environmental Management Programs.

[FR Doc. E7-25022 Filed 12-26-07; 8:45 am]

BILLING CODE 7590-01-P